DEPARTMENT OF ENERGY

Federal Energy Regulatory Commission

[Docket No. AD08-4-000]

Capacity Markets in Regions With Organized Electric Markets; Notice of Technical Conference

February 29, 2008.

Take notice that on May 7, 2008, Commission staff will convene a technical conference to discuss the operation of forward capacity markets in New England and the PJM region, including the proposals for modifying the design of those markets raised by American Forest and Paper Association and Portland Cement Association, et al. in the Notice of Proposed Rulemaking issued in Docket No. RM07-19-000, et al. Wholesale Competition in Regions with Organized Electric Markets, 122 FERC ¶ 61,167 (2007). The technical conference will be held from 9 a.m. to 4 p.m. (EDT), in the Commission Meeting Room at the Federal Energy Regulatory Commission, 888 First Street, NE., Washington, DC 20426. All interested persons are invited to attend. Further notices with detailed information will be issued in advance of the conference.

A free webcast of this event is available through www.ferc.gov. Anyone with Internet access who desires to view this event can do so by navigating to ferc.gov's Calendar of Events and locating this event in the Calendar. The event will contain a link to its webcast. The Capitol Connection provides technical support for the free webcasts. It also offers access to this event via television in the Washington, DC, area and via phone-bridge for a fee. If you have any questions, visit www.CapitolConnection.org or contact Danelle Perkowski or David Reininger at 703-993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact:

David Mead, Office of Energy Market Regulation, Federal Energy Regulatory Commission, 888 First Street, NE., Washington, DC 20426, (202) 502-8028, David.Mead@ferc.gov.

Tina Ham, Office of the General Counsel—Energy Markets, Federal Energy Regulatory Commission, 888 First Street, NE., Washington, DC 20426, (202) 502-6224, Tina.Ham@ferc.gov.

Kimberly D. Bose,
Secretary.

[FR Doc. E8-4498 Filed 3-6-08; 8:45 am]

BILLING CODE 6717-01-P